SOCIAL SECURITY ADMINISTRATION

[Docket No. SSA-2018-0056]

Privacy Act of 1974; System of Records; Correction

AGENCY: Social Security Administration.

ACTION: Notice of a new system of records; correction.

SUMMARY: The Social Security Administration published a System of Records Notice (SORN) in the Federal Register on Monday, April 15, 2019 concerning the Mass Emergency Notification System. That document contained an incorrect SORN number. This notice corrects that error.

FOR FURTHER INFORMATION CONTACT: Anthony Tookes, 410-966-0097.

SUPPLEMENTARY INFORMATION:

Correction

In the Federal Register of April 15, 2019, 84 FR 15275, on page 15275, in the third column, after SYSTEM NAME AND NUMBER, “Mass Emergency Notification System (MENS), 60-0383” is corrected to read as “Mass Emergency Notification System (MENS), 60-0386”.

Dated: June 3, 2019.
Mary Ann Zimmerman,
Acting Executive Director, Office of Privacy and Disclosure, Office of the General Counsel.

[FR Doc. 2019-11982 Filed 6-6-19; 8:45 am]

BILLING CODE 4191-02-P